FEDERAL COMMUNICATIONS COMMISSION

[CC Docket No. 92-237; DA 02-332]

Next Meeting of the North American Numbering Council

AGENCY: Federal Communications Commission.

ACTION: Notice.

SUMMARY: On February 15, 2002, the Commission released a public notice announcing the March 12-13, 2002 meeting and agenda of the North American Numbering Council (NANC). The intended effect of this action is to make the public aware of the NANC's next meeting and its agenda.

FOR FURTHER INFORMATION CONTACT: Deborah Blue, Special Assistant to the Designated Federal Officer (DFO) at (202) 418-2320 or dblue@fcc.gov. The address is: Network Services Division, Common Carrier Bureau, Federal Communications Commission, The Portals II, 445 12th Street, SW., Suite 6A207, Washington, DC 20554. The fax number is: (202) 418-2345. The TTY number is: (202) 418-0484.

SUPPLEMENTARY INFORMATION: Released: February 15, 2002.

The North American Numbering Council (NANC) has scheduled a meeting to be held Tuesday, March 12, 2002, from 8:30 a.m. until 5 p.m., and on Wednesday, March 13, 2002, from 8:30 a.m., until 12 noon (if required). The meeting will be held at the Federal Communications Commission, Portals II, 445 12th Street, SW, Room TW-C305, Washington, DC.

This meeting is open to members of the general public. The FCC will attempt to accommodate as many participants as possible. The public may submit written statements to the NANC, which must be received two business days before the meeting. In addition, oral statements at the meeting by parties or entities not represented on the NANC will be permitted to the extent time permits. Such statements will be limited to five minutes in length by any one party or entity, and requests to make an oral statement must be received two business days before the meeting. Requests to make an oral statement or provide written comments to the NANC should be sent to Deborah Blue at the address under FOR FURTHER INFORMATION CONTACT, stated above.

Proposed Agenda—Tuesday, March 12, 2002

1. Announcements and Recent News

2. Approve Minutes

—Meeting of January 15, 2002

—Updated NANC Directory

3. Report of North American Numbering Plan Administrator (NANPA)

4. Report of NANPA Oversight Working Group

—Initial evaluation of survey results

—Industry associations to report on efforts to encourage members to complete surveys

5. Status of Industry Numbering Committee activities

—Identifying “policy” issues

—Summary “walk through” of NANP Expansion Plan

—INC Regular Report

6. Report of National Thousands-Block Pooling Administrator

7. Report of NANP Expansion/Optimization IMG

8. Report of the Local Number Portability Administration (LNPA) Working Group

Wireless Number Portability Operations (WNPO) Subcommittee

—Native Block Pooling status

—WNPO/CTIA: Status and risks to November 24, 2002 pooling and porting deadline

9. Report of NAPM LLC

10. Report from NBANC

11. Report of Cost Recovery Working Group

12. Report of E-Conferencing Subcommittee

13. Steering Committee

—Table of NANC Projects

14. Report of Steering Committee

15. Action Items

16. Public Participation (5 minutes each)

17. Other Business

Adjourn (No later than 5 p.m.)

Wednesday, March 13, 2002 (If Required)

18. Complete any unfinished Agenda Items

19. Other Business

Adjourn (No later than 12:00 Noon)

Federal Communications Commission.
Diane L. Griffin,
Acting Chief, Network Services Division, Common Carrier Bureau.

[FR Doc. 02-4216 Filed 2-21-02; 8:45 am]

BILLING CODE 6712-01-P